DEPARTMENT OF TRANSPORTATION

Office of the Secretary

Notice of Applications for Certificates of Public Convenience and Necessity and Foreign Air Carrier Permits Filed Under Subpart B (Formerly Subpart Q) During the Week Ending September 19, 2009

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0222.

Date Filed: September 14, 2009.

Due Date for Answers, Conforming Applications, or Motion to Modify Scope: October 5, 2009.

Description:Application of Olympic Air Anonymos Etaireia Aeroporikon Metaforon d/b/a Olympic Air requesting a foreign air carrier permit and corresponding exemption authority to the full extent authorization by the Air Transport Agreement between the United States and the European Community and the Member States of the European Community to enable it to engage in: (i) Foreign scheduled and charter air transportation of persons, property and mail from any point or points behind any Member State of the European Union via any point or points in any Member State and via intermediate points to any point or points in the United States or beyond; (ii) foreign scheduled and charter air transportation of persons, property and mail between any point or points in the United States and any point or points in any member of the European Common Aviation Area; (iii) other charters pursuant to prior approval requirements; and (iv) transportation authorized by any additional route rights made available to European Community carriers in the future.

Docket Number: DOT-OST-2009-0224.

Date Filed: September 15, 2009.

Due Date for Answers, Conforming Applications, or Motion to Modify Scope: September 30, 2009.

Description: Application of Calm Air International LP d/b/a (“Calm Air”), a Canadian air carrier, requesting an amendment to its air carrier permit to engage in non-scheduled charter trips in foreign air transportation between Canada and the United States as more specifically set forth herein.

Renee V. Wright,
Program Manager, Docket Operations, Federal Register Liaison.

[FR Doc. E9-24783 Filed 10-14-09; 8:45 am]

BILLING CODE 4910-9X-P